SMALL BUSINESS ADMINISTRATION

Advisory Committee on Veterans Business Affairs; Public Meeting

The U.S. Small Business Administration (SBA) Advisory Committee on Veterans Business Affairs, pursuant to the Veterans Entrepreneurship and Small Business Development Act of 1999 (Pub. L. 106-50), will hold a public meeting beginning on Tuesday, May 9, 2006, until Wednesday, May 10, 2006. The meeting will be held at the U.S. Small Business Administration located at 409 3rd Street SW., Washington, DC 20416. The meeting will start at 9 a.m. until 5 p.m., in the Eisenhower Conference Room, 2nd Floor.

The purpose of the meeting is to focus on procurement opportunities and outreach services for the veterans and service disabled veterans.

Anyone wishing to attend must contact Cheryl Clark, Program Liaison, in the Office of Veterans Business Development, at (202) 205-6773, or e-mail Cheryl.Clark@sba.gov.

Matthew K. Becker,
Committee Management Officer.

[FR Doc. E6-6692 Filed 5-2-06; 8:45 am]

BILLING CODE 8025-01-P